DEPARTMENT OF HEALTH AND HUMAN SERVICES

Centers for Disease Control and Prevention

[60Day-04-04JY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandi Gambescia, CDC Assistant Reports Clearance Officer, 1600 Clifton Road, MS-E11, Atlanta, GA 30333. Written comments should be received within 14 days of this notice.

Proposed Project

Assessment of Occupational Electric and Magnetic Field (EMF) Exposures—Validation of Interview Procedures used in a Brain Tumor Study against Measurements of Biologically-based Exposure Metrics—New—National Institute for Occupational Safety and Health (NIOSH), Centers for Disease Control and Prevention (CDC).

This study to assess occupational exposures to electric and magnetic fields (EMF) has the following objectives: (1) Validate an interview-based EMF exposure assessment algorithm against measurements of the time-weighted average (TWA) magnetic field magnitude used in previous epidemiologic studies, (2) calibrate the parameters in the algorithm in order to improve the exposure estimates, and (3) determine the correlation between the EMF exposures from the algorithm and biologically-based metrics measured by new instrumentation. These biologically-based metrics consist of either characteristics of the magnetic field that have produced biological effects in laboratory studies or currents in the body resulting from contact with charged surfaces. For the higher correlations with the TWA magnetic field magnitude, these data will be used to determine whether the exposure algorithm can be modified to accurately assess exposures to the biologically-based metrics.

This is a one-time study of workers of an electric utility in Canada and a federal research laboratory in the U.S. There will be no cost to respondents.

Respondents | Number of respondents | Number of responses/respondent | Average burden/response (in hrs) | Total burden (in hrs)
Workers | 108 | 1 | 15/60 | 27
Total | 108 |  |  | 27

Dated: August 12, 2004.
Alvin Hall,
Director, Management Analysis and Services Office, Centers for Disease Control and Prevention.

[FR Doc. 04-18922 Filed 8-17-04; 8:45 am]

BILLING CODE 4163-18-P